DEPARTMENT OF THE INTERIOR

National Park Service

[NPS-WASO-NRNHL-DTS#-033978; PPWOCRADI0, PCU00RP14.R50000]

National Register of Historic Places; Notification of Pending Nominations and Related Actions

AGENCY: National Park Service, Interior.

ACTION: Notice.

SUMMARY: The National Park Service is soliciting electronic comments on the significance of properties nominated before May 21, 2022, for listing or related actions in the National Register of Historic Places.

DATES: Comments should be submitted electronically by June 16, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before May 21, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ALABAMA

Walker County

Bankhead, William Brockman, House, 800 7th St. West, Jasper, SG100007850

CALIFORNIA

San Francisco County

St. Francis Wood Historic District, Bounded by Portola Dr., San Pablo and Santa Paula Aves., San Jacinto Way, San Andreas Way, Junipero Serra and Monterey Blvds., San Francisco, SG100007846

GEORGIA

Fayette County

Gay, Reuben, House, 116 Weldon Rd., Fayetteville vicinity, SG100007866

Muscogee County

1238 Professional Building, 1238 2nd Ave., Columbus, SG100007851

OHIO

Summit County

Hudson Historic District (Boundary Increase II), Roslyn Ave., Elm, Aurora, Baldwin, Chapel, Church, Division, Hudson, North Main, North Oviatt, Owen, Brown, and West. Prospect Sts., Hudson, BC100007849

OKLAHOMA

Oklahoma County

Oklahoma City PWA Police Headquarters, 200 North Shartel Ave., Oklahoma City, SG100007855

Ottawa County

Nine Tribes Tower, 205 B St. NE, Miami, SG100007856

Washington County

Carr-Bartles Mill Site, Address Restricted, Bartlesville vicinity, SG100007857

OREGON

Multnomah County

Phoenix Pharmacy, 6615 SE Foster Rd., Portland, SG100007861

PENNSYLVANIA

Allegheny County

Peoples Bank Building, The 301 5th Ave., McKeesport, SG100007865

Philadelphia County

Germantown Fireproof Storage Warehouse, 231-253 Church Ln., Philadelphia, SG100007864

TEXAS

Travis County

Clement's Market—The Sport Bar (East Austin MRA), 1200 East 6th St., Austin, MP100007848

WYOMING

Platte County

Chugwater Soda Fountain, 314 1st St., Chugwater, SG100007867

Additional documentation has been received for the following resources:

OKLAHOMA

Carter County

Ardmore Historic Commercial District (Additional Documentation), Main St. from Santa Fe RR tracks to B St., North Washington from Main St. to 2nd Ave. NE, Caddo St. from Main St. to north side of 2nd Ave. NE, Ardmore, AD83002080

Okfuskee County

Okfuskee County Courthouse (Additional Documentation) (County Courthouses of Oklahoma TR), 209 North 3rd St., Okemah, AD84003377

Okemah Armory (Additional Documentation), 405 North 6th St., Okemah, AD98000734

Nomination submitted by Federal Preservation Officer:

The State Historic Preservation Officer reviewed the following nomination and responded to the Federal Preservation Officer within 45 days of receipt of the nomination and supports listing the property in the National Register of Historic Places.

CONNECTICUT

Hartford County

Newington VA Hospital Historic District (United States Third Generation Veterans Hospitals, 1946-1958 MPS), 555 Willard Ave., Newington, MP100007860

Authority: Section 60.13 of 36 CFR part 60.

Dated: May 25, 2022.
Sherry A. Frear,
Chief, National Register of Historic Places/National Historic Landmarks Program.

[FR Doc. 2022-11751 Filed 5-31-22; 8:45 am]

BILLING CODE 4312-52-P